DEPARTMENT OF THE INTERIOR

Assistant Secretary—Water and Science; Central Utah Project Completion Act; Notice of Intent To Prepare a Draft Environmental Assessment for the Execution of a Lease of Power Privilege Contract and the Construction, Operation, and Maintenance of a Non-Federal Hydroelectric Generation Facility on Jordanelle Dam, Bonneville Unit, Central Utah Project

AGENCY: Office of the Assistant Secretary—Water and Science, Interior.

ACTION: Notice of intent to prepare a draft Environmental Assessment (EA) for the execution of a Lease of Power Privilege contract and the construction, operation, and maintenance of a non-federal hydroelectric generation facility on Jordanelle Dam, Wasatch County, Utah, pursuant to the lease.

SUMMARY: Pursuant to section 102(2)(C) of the National Environmental Policy Act (NEPA) of 1969, as amended; Public Law 102-575, Central Utah Project Completion Act (CUPCA), as amended; and the July 2, 1999, Federal Register Notice (FR Doc. 99-16852) the Department of the Interior is initiating a NEPA process with public involvement for the execution of a Lease of Power Privilege contract and the construction, operation, and maintenance of a non-federal hydroelectric generation facility on Jordanelle Dam, of the Bonneville Unit, Central Utah Project and associated power transmission lines and facilities. Through a competitive selection process the joint application of the Central Utah Water Conservancy District (District) and Heber Light and Power (HL&P) was chosen as the potential lessee to develop hydropower at Jordanelle Dam. Construction and generation of power will be accomplished by the non-federal partnership of the District and HL&P through a Lease of Power Privilege. A lease contract will be executed among the District, HL&P, and the Department, which will describe the development, operation, and maintenance of a hydroelectric generation facility at Jordanelle Dam, consistent with the purposes and operations of the Bonneville Unit. Development of a hydroelectric facility will not change the operation of Jordanelle Dam and Reservoir.

DATES: Public meeting(s) will be announced in local newspapers. The purpose of the meeting(s) will be to provide information and request public input.

FOR FURTHER INFORMATION CONTACT: Additional information on matters related to this Federal Register notice can be obtained from Mr. Reed R. Murray, Deputy Program Director, CUP Completion Act Office, Department of the Interior, 302 East 1860 South, Provo UT 84606-6154, (801) 379-1237, rmurray@uc.usbr.gov. Written comments may be submitted to this same address.

SUPPLEMENTARY INFORMATION: The Central Utah Project's Bonneville Unit, located in northern Utah, was authorized for construction, including hydroelectric power, by the Colorado River Storage Project (CRSP) Act of April 11, 1956 (ch. 203, 70 Stat. 105)(CRSPA). The construction and operation of a hydroelectric generating facility below Jordanelle Dam was contemplated in the 1979 Municipal and Industrial System (M&I) Final Environmental Impact Statement (EIS). The 1987 Final Supplement to the M&I Final EIS deferred construction of a powerplant at Jordanelle awaiting non-Federal participation. The potential to produce hydropower was incorporated in the construction of Jordanelle Dam. The proposed Draft Environmental Assessment will rely on and update the 1987 Final Supplement to the M&I Final EIS regarding construction of a powerplant at Jordanelle Dam. The operation of Jordanelle Dam and Reservoir will remain the same as described in the 1987 Final Supplement to the Final EIS.

The Central Utah Project Completion Act (CUPCA), comprised of Titles II-VI of the Act of October 30, 1992 (106 Stat. 4600, Pub. L. 102-575) authorized the construction of other features of the Bonneville Unit. Section 208 of the CUPCA provides that power generation facilities associated with the CUP be developed and operated in accordance with the CRSPA, which explicitly embodies all Reclamation law except as otherwise provided in the CRSPA. In accordance with a Federal Register notice published July 2, 1999 (Volume 64, Number 127, Pages 36030-36032), Interior, in consultation with the Western Area Power Administration, selected the joint proposal of the District/HL&P to develop non-federal hydroelectric power at Jordanelle Dam through a lease of power privilege. A lease of power privilege is an alternative to federal hydroelectric power development. A lease of power privilege grants a non-federal entity the right to utilize, consistent with CUP purposes, water power head and storage at and/or operationally in conjunction with the CUP, for non-federal electric power generation and sale by the entity. The general authority for lease of power privilege under Reclamation law includes, among others, the Town Sites and Power Development Act of 1906 (43 U.S.C. 522) and the Reclamation Project Act of 1939 (43 U.S.C. 485h(c)) (1939 Act). The intent to hold public negotiations for the lease of power privilege contract was announced in the Federal Register on October 25, 2000 (Volume 65, Number 207, Pages 63879-63880). Negotiations on the lease contract began on November 12, 2000, and are still underway. Power developed by the Jordanelle hydroelectric generation facility will be purchased by Heber Light and Power and sold to their customers.

Dated: February 2, 2004.
Ronald Johnston,
Program Director, Department of the Interior.

[FR Doc. 04-6175 Filed 3-18-04; 8:45 am]

BILLING CODE 4310-RK-P